DEPARTMENT OF COMMERCE

Foreign-Trade Zones Board

(Docket 47-2005)

Foreign-Trade Zone 26 Atlanta, Georgia, Application For Subzone, Eastman Kodak Company, (X-ray film, Color Paper, Digital Media, Inkjet Paper, Entertainment Imaging, and Health Imaging), Lawrenceville, Georgia

An application has been submitted to the Foreign-Trade Zones Board (the Board) by Georgia Foreign-Trade Zone, Inc., grantee of FTZ 26, requesting special-purpose subzone status for the facility of the Eastman Kodak Company (Kodak), located in Lawrenceville, Georgia. The application was submitted pursuant to the Foreign-Trade Zones Act, as amended (19 U.S.C. 81a-81u), and the regulations of the Board (15 CFR part 400). It was formally filed on September 26, 2005.

The facility for which subzone status is proposed (17.35 acres; one building with 249,550 sq. ft. of enclosed space) is located at 2225 Cedars Road in Lawrenceville. The facility is used for the storage and distribution, as well as certain processing operations (e.g., “kitting”), of imported products related to X-ray film, color paper, digital media, inkjet paper, entertainment imaging, and health imaging. Kodak indicates that authority to perform its processing operations under FTZ procedures may result in changes in tariff classifications and duty rates for imported products. The application states that “some of the potential items that might be included in kitting operations in different combinations” are cameras (HTSUS 8525.40.4000), docking station (8471.80.1000), docking station with charger (8504.40.9550), printer dock (8471.60.5500), camera bags (4202.92.9026), batteries (8506 - 8507), battery chargers (8504.40.9550), mini tripods (9006.91.0000), memory cards (8473.30.1080), USB cable (8544.41.4000), and power cable - printer dock (8544.51.9000). Duty rates on these items range from duty-free to 17.6% ad valorem.

The application also requests authority to include a broad range of inputs and final products that the plant may warehouse, distribute, or process under FTZ procedures in the future within the categories of X-ray film, color paper, digital media, inkjet paper, entertainment imaging (i.e., motion picture film, consumer film and related chemicals), and health imaging (i.e., other health imaging film, equipment and related chemicals). (New major activity in these inputs/products could require review by the FTZ Board.) General HTSUS categories of imported products to be admitted to the proposed subzone include: 2620, 2710, 2803, 2804, 2806, 2811, 2812, 2815, 2825, 2827, 2832, 2833, 2836, 2838, 2842, 2843, 2846, 2851, 2901, 2902, 2903, 2904, 2906, 2907, 2908, 2909, 2911, 2914, 2915, 2916, 2917, 2918, 2920, 2921, 2922, 2924, 2925, 2926, 2928, 2930, 2931, 2933, 2934, 2935, 2942, 3004, 3402, 3503, 3507, 3701, 3702, 3703, 3704, 3705, 3706, 3707, 3824, 3901, 3903, 3905, 3906, 3907, 3910, 3912, 3917, 3919, 3920, 3921, 3923, 3924, 3926, 4008, 4009, 4010, 4016, 4017, 4202 (4202.12.6000, 4202.12.8030, 4202.91.0090, 4202.92.9026, 4202.92.9036, 4202.92.9060), 4203, 4415, 4504, 4703, 4802, 4805, 4808, 4811, 4818, 4819, 4820, 4821, 4823, 4901, 4902, 4905, 4906, 4908, 4909, 4910, 4911, 5906, 6804, 6909, 7003, 7004, 7005, 7006, 7007, 7008, 7013, 7014, 7020, 7106, 7108, 7112, 7412, 7419, 7606, 7607, 7609, 7616, 8101, 8108, 8302, 8306, 8308, 8309, 8405, 8412, 8413, 8414, 8415, 8418, 8419, 8420, 8421, 8422, 8423, 8428, 8431, 8439, 8441, 8443, 8466, 8467, 8470, 8471, 8472, 8473, 8476, 8477, 8479, 8480, 8481, 8485, 8501, 8503, 8504, 8505, 8506, 8507, 8511, 8512, 8513, 8514, 8515, 8516, 8518, 8521, 8523, 8524, 8525, 8528, 8529, 8531, 8532, 8533, 8534, 8535, 8536, 8537, 8538, 8539, 8540, 8541, 8542, 8543, 8544, 8545, 8546, 8547, 9001, 9002, 9005, 9006, 9007, 9008, 9009, 9010, 9011, 9013, 9015, 9016, 9017, 9018, 9022, 9023, 9024, 9025, 9026, 9027, 9028, 9029, 9030, 9031, 9032, 9033, 9106, 9402, 9405, 9612, and 9705. The duty rates on these products range from duty-free to 38%.

The application lists the following general HTSUS categories of finished products that may be shipped from the proposed subzone: 2710, 2803, 2804, 2806, 2811, 2812, 2815, 2825, 2827, 2832, 2833, 2836, 2838, 2842, 2843, 2846, 2851, 2901, 2902, 2903, 2904, 2906, 2907, 2908, 2909, 2911, 2914, 2915, 2916, 2917, 2918, 2920, 2921, 2922, 2924, 2925, 2926, 2928, 2930, 2931, 2933, 2934, 2935, 2942, 3004, 3402, 3503, 3507, 3701, 3702, 3703, 3704, 3705, 3706, 3707, 3824, 3901, 3903, 3905, 3906, 3907, 3910, 3912, 3917, 3919, 3920, 3921, 3923, 3924, 3926, 4008, 4009, 4010, 4016, 4017, 4202 (4202.12.6000, 4202.12.8030, 4202.91.0090, 4202.92.9026, 4202.92.9036, 4202.92.9060), 4203, 4415, 4504, 4703, 4802, 4805, 4808, 4811, 4818, 4819, 4820, 4821, 4823, 4901, 4902, 4905, 4906, 4908, 4909, 4910, 4911, 5906, 6804, 6909, 7003, 7004, 7005, 7006, 7007, 7008, 7013, 7014, 7020, 7106, 7108, 7112, 7412, 7419, 7606, 7607, 7609, 7616, 8101, 8108, 8302, 8306, 8308, 8309, 8405, 8412, 8413, 8414, 8415, 8418, 8419, 8420, 8421, 8422, 8423, 8428, 8431, 8439, 8441, 8443, 8466, 8467, 8470, 8471, 8472, 8473, 8476, 8477, 8479, 8480, 8481, 8485, 8501, 8503, 8504, 8505, 8506, 8507, 8511, 8512, 8513, 8514, 8515, 8516, 8518, 8521, 8523, 8524, 8525, 8528, 8529, 8531, 8532, 8533, 8534, 8535, 8536, 8537, 8538, 8539, 8540, 8541, 8542, 8543, 8544, 8545, 8546, 8547, 9001, 9002, 9005, 9006, 9007, 9008, 9009, 9010, 9011, 9013, 9015, 9016, 9017, 9018, 9022, 9023, 9024, 9025, 9026, 9027, 9028, 9029, 9030, 9031, 9032, 9033, 9106, 9402, 9405, 9612, and 9705. The duty rates on these products range from duty-free to 38%.

Zone procedures would exempt Kodak from Customs duty payments on products that are reexported. On its shipments to the U.S. market, the company would be able to defer duty payments until merchandise is shipped from the plant and entered for consumption. For certain imported merchandise that is processed into a “kit” with other merchandise, a change in customs classification and consequent lower duty rate may apply (such duty savings are estimated to constitute five percent of the facility's estimated $ 200,000 to $ 350,000 in total annual subzone-related savings). Kodak would also be able to avoid duty on foreign inputs which become scrap/waste, estimated at one percent of FTZ-related savings. Kodak may also realize logistical/procedural and other benefits from subzone status. The request indicates that the savings from FTZ procedures would help improve the international competitiveness of Kodak's U.S. operations.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building--Suite 4100W, 1099 14th St. NW., Washington, DC 20005; or

2. Submissions Via the U.S. Postal Service: Foreign-Trade-Zones Board, U.S. Department of Commerce, FCB--Suite 4100W, 1401 Constitution Ave. NW., Washington, DC 20230.

The closing period for their receipt is December 2, 2005. Rebuttal comments in response to material submitted during the foregoing period may be submitted during the subsequent 15-day period to December 19, 2005.

A copy of the application and accompanying exhibits will be available for public inspection at the Office of the Foreign-Trade Zones Board's Executive Secretary at address Number 1 listed above and at the Atlanta U.S. Export Assistance Center, 75 Fifth Street, N.W., Suite 1055, Atlanta, Georgia 30308.

Dated: September 26, 2005.
Dennis Puccinelli,
Executive Secretary.

[FR Doc. 05-19751 Filed 9-30-05; 8:45 am]

BILLING CODE 3510-DS-S